DEPARTMENT OF COMMERCE

Foreign-Trade Zones Board

[Docket 26-2006]

Foreign-Trade Zone 231—Stockton, CA, Application for Subzone Status, Medline Industries, Inc., (Medical Supply Distribution)

An application has been submitted to the Foreign-Trade Zones Board (the Board) by the Port of Stockton, grantee of FTZ 231, requesting special-purpose subzone status for the medical supply distribution facility of Medline Industries, Inc., located in Lathrop, California. The application was submitted pursuant to the provisions of the Foreign-Trade Zones Act, as amended (19 U.S.C. 81a-81u), and the regulations of the Board (15 CFR part 400). It was formally filed on June 15, 2006.

The Medline facility (277,200 sq. ft./12.49 acres/30 employees) is located at 18250 Murphy Parkway, Lathrop, California. The facility is used for warehousing and distribution of foreign-origin and domestic medical supplies for the U.S. market and export. FTZ procedures would be utilized to support Medline's import and domestic distribution activity. Finished medical supplies to be admitted to the proposed subzone for distribution would include: medical gloves of natural rubber, surgical/medical gloves of plastic, apparel items of cotton and man-made fibers (gowns, shirts, overalls, caps, baby shirts, scrubs, covers, socks, pajamas, slippers), woven/non-woven bed linens, towels, pillows, diapers, aprons, canes, walkers, wheelchairs, scooters, grab bars, beds, commodes, wooden bedroom furniture, folios, leather and man-made fiber travel bags, thermometers, vacuum pumps, watch cases, and toiletry items. The application states that all quota-class textile and apparel products classified under Textile Import Quota categories would be admitted to the proposed subzone under domestic (duty-paid) status (19 CFR § 146.43), and any products subject to antidumping duties would be admitted under domestic (duty-paid) or privileged foreign status (19 CFR § 146.41).

FTZ procedures would exempt Medline from Customs duty payments on foreign products that are re-exported. On domestic sales, the company would be able to defer payments until merchandise is shipped from the facility and entered for U.S. consumption. Medline also plans to utilize certain logistical benefits that will help facilitate the distribution of domestic and foreign merchandise in a consolidated manner. The application indicates that all of the above-cited savings from FTZ procedures would help improve the facility's international competitiveness.

In accordance with the Board's regulations, a member of the FTZ Staff has been designated examiner to investigate the application and report to the Board.

Public comment is invited from interested parties. Submissions (original and 3 copies) shall be addressed to the Board's Executive Secretary at the address below. The closing period for their receipt is August 21, 2006. Rebuttal comments in response to material submitted during the foregoing period may be submitted during the subsequent 15-day period to September 5, 2006.

A copy of the application and accompanying exhibits will be available for public inspection at each of the following locations: U.S. Department of Commerce Export Assistance Center, 1301 Clay Street, Oakland Federal Building North Tower, Suite 630N, Oakland, California 94612; and, Office of the Executive Secretary, Foreign-Trade Zones Board, Room 1115, U.S. Department of Commerce, 1401 Constitution Avenue, NW, Washington, District of Columbia 20230-0002; Tel: (202) 482-2862.

Dated: June 15, 2006.
Pierre V. Duy,
Acting Executive Secretary.

[FR Doc. E6-9799 Filed 6-20-06; 8:45 am]

BILLING CODE 3510-DS-S